DEPARTMENT OF TRANSPORTATION

Federal Railroad Administration

[Waiver Petition Docket Number FRA-2010-0145]

Union Pacific Railroad Company; Notice of Public Hearing and Extension of Public Comment Period

On October 22, 2010, the Federal Railroad Administration (FRA) published a notice in the Federal Register (75 FR 65399) announcing the Union Pacific Railroad Company's (UP) request for a waiver of compliance from certain provisions of Title 49 Code of Federal Regulations (CFR) part 232, Brake System Safety Standards. Specifically, UP has petitioned FRA for a determination that the engineering principles used in its design of its Continuous Speed Control Yard located at Roseville, California, are a sufficient primary retarder to prevent equipment rollouts and act as an acceptable form of alternate securement under 49 CFR 232.103(n)(1) (Securement of unattended equipment).

FRA has determined upon investigation that the facts of this proceeding warrant a public hearing. Accordingly, a hearing is hereby scheduled to begin at 9 a.m. on March 17, 2011, at the Hilton Garden Inn Roseville, 1951 Taylor Road, Roseville, California, USA 95661. Interested parties are invited to present oral statements at this hearing. For information on facilities or services for persons with disabilities or to request special assistance at the hearing, contact FRA's Docket Clerk, Michelle Silva, by telephone, e-mail, or in writing, at least five business days before the date of the hearing. Ms. Silva's contact information is as follows: FRA, Office of Chief Counsel, Mail Stop 10, 1200 New Jersey Avenue, SE., Washington, DC 20590; telephone 202-493-6030; e-mail michelle.silva@dot.gov.

The informal hearing will be conducted by a representative designated by FRA in accordance with FRA's Rules of Practice (see particularly 49 CFR 211.25). FRA's representative will make an opening statement outlining the scope of the hearing, as well as any additional procedures for the conduct of the hearing. The hearing will be a non-adversarial proceeding in which all interested parties will be given the opportunity to express their views regarding the waiver petition without cross-examination. After all initial statements have been completed, those individuals wishing to make brief rebuttal statements will be given an opportunity to do so.

In addition, FRA is hereby extending the comment period to April 17, 2011. All communications concerning these proceedings should identify the appropriate docket number (e.g., Waiver Petition Docket Number FRA-2010-0145) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (Volume 65, Number 70; Page 19477) or at http://www.dot.gov/privacy.html.

Issued in Washington, DC on February 14, 2011.
Robert C. Lauby,
Deputy Associate Administrator for Regulatory and Legislative Operations.

[FR Doc. 2011-3643 Filed 2-16-11; 8:45 am]

BILLING CODE 4910-06-P